DEPARTMENT OF TRANSPORTATION

Federal Aviation Administration

14 CFR Part 39

[Docket No. FAA-2004-19496; Directorate Identifier 2003-NM-181-AD]

RIN 2120-AA64

Airworthiness Directives; Bombardier Model CL-215-6B11 (CL215T Variant) and CL-215-6B11 (CL415 Variant) Series Airplanes

AGENCY: Federal Aviation Administration (FAA), DOT.

ACTION: Notice of proposed rulemaking (NPRM).

SUMMARY: The FAA proposes to adopt a new airworthiness directive (AD) for certain Bombardier Model CL-215-6B11 (CL215T variant) and CL-215-6B11 (CL415 variant) series airplanes. This proposed AD would require replacing the mounting pad studs of the auxiliary feather pump with new, longer studs, and installing a pressure relief valve. This proposed AD is prompted by a few incidents of external oil leaks from the oil pump of the power control unit due to a malfunction of the pressure regulating valve. We are proposing this AD to prevent fracturing of the pump body, which could result in loss of engine oil, and consequent inability to maintain engine oil pressure and to feather the propeller.

DATES: We must receive comments on this proposed AD by December 3, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: room PL-401 on the plaza level of the Nassif Building, 400 Seventh Street, SW., Washington, DC, between 9 a.m. and 5 p.m., Monday through Friday, except Federal holidays.

You can get the service information identified in this proposed AD from Bombardier, Inc., Canadair, Aerospace Group, P.O. Box 6087, Station Centre-ville, Montreal, Quebec H3C 3G9, Canada.

You may examine the contents of this AD docket on the Internet at http://dms.dot.gov, or at the Docket Management Facility, U.S. Department of Transportation, 400 Seventh Street, SW., room PL-401, on the plaza level of the Nassif Building, Washington, DC.

FOR FURTHER INFORMATION CONTACT: Richard Fiesel, Aerospace Engineer, Airframe and Propulsion Branch, ANE-171, FAA, New York Aircraft Certification Office, 1600 Stewart Avenue, Westbury, suite 410, New York 11590; telephone (516) 228-7304; fax (516) 794-5531.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-19496; Directorate Identifier 2003-NM-181-AD “ at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You may examine the AD docket in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

Transport Canada Civil Aviation (TCCA), which is the airworthiness authority for Canada, notified us that an unsafe condition may exist on certain Bombardier Model CL-215-6B11 (CL215T variant) and CL-215-6B11 (CL415 variant) series airplanes. The TCCA advises that there have been a few incidents of external oil leaks from the oil pump of the propeller control unit due to a malfunction of the pressure regulating valve, on Pratt & Whitney Model PW120 series engines. The resulting high internal oil pressure may cause a fracture of the pump body. This condition, if not corrected, could result in loss of engine oil, and consequent inability to maintain engine oil pressure and to feather the propeller.

Relevant Service Information

Bombardier has issued Service Bulletin 215-3108, dated March 28, 2001 (for Model CL-215-6B11 (CL215T variant) series airplanes); and Bombardier Service Bulletin 215-4234, dated March 28, 2001 (for Model CL-215-6B11 (CL415 variant) series airplanes). The service bulletins describe procedures for replacing the mounting pad studs of the auxiliary feather pump with new, longer studs, and installing a pressure relief valve. Accomplishing the actions specified in the service information will adequately address the unsafe condition. TCCA mandated the service information and issued Canadian airworthiness directive CF-2002-14, dated February 13, 2002, to ensure the continued airworthiness of these airplanes in Canada.

The service bulletins refer to Pratt & Whitney Canada Service Bulletin PW100-72-21636, Revision 2, dated June 26, 2002, as an additional source of service information for doing the replacement of the mounting pad studs.

FAA's Determination and Requirements of the Proposed AD

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined the TCCA's findings, evaluated all pertinent information, and determined that AD action is necessary for products of this type design that are certificated for operation in the United States.

Therefore, we are proposing this AD, which would require replacing the mounting pad studs of the auxiliary feather pump with new, longer studs, and installing a pressure relief valve. The proposed AD would require you to use the Bombardier service information described previously to perform these actions, except as discussed under “Difference Between Proposed Rule and Referenced Service Bulletins.”

Difference Between Proposed Rule and Referenced Service Bulletins

Operators should note that, although the Accomplishment Instructions of the referenced Bombardier service bulletins describe procedures for submitting a sheet recording compliance with the service bulletin, this proposed AD would not require that action. We do not need this information from operators.

Costs of Compliance

The following table provides the estimated costs for U.S. operators to comply with this proposed AD.

Estimated Costs
Action | Work hours | Average labor rate per hour | Parts | Cost per airplane | Number of U.S.-registered airplanes | Fleet cost
Replacement | 2 | $65 | Free | $130 | 3 | $390
Installation | 4 | 65 | Free | 260 | 3 | 780

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc. (Formerly Canadair): Docket No. FAA-2004-19496; Directorate Identifier 2003-NM-181-AD.

Comments Due Date

(a) The Federal Aviation Administration must receive comments on this AD action by December 3, 2004.

Affected ADs

(b) None.

Applicability

(c) This AD applies to Bombardier Model CL-215-6B11 (CL215T variant) having serial numbers (S/N) 1056 through 1125 inclusive, and Model CL-215-6B11 (CL415 variant) series airplanes, having S/Ns 2001 through 2053 inclusive; certificated in any category.

Unsafe Condition

(d) This AD was prompted by a few incidents of external oil leaks from the oil pump of the power control unit due to a malfunction of the pressure regulating valve. We are issuing this AD to prevent fracturing of the pump body, which could result in loss of engine oil, and consequent inability to maintain engine oil pressure and to feather the propeller.

Compliance

(e) You are responsible for having the actions required by this AD performed within the compliance times specified, unless the actions have already been done.

Replacement

(f) Within 12 months after the effective date of this AD, replace the mounting pad studs of the auxiliary feather pump with new, longer studs, and install a pressure relief valve; in accordance with the Accomplishment Instructions of Bombardier Service Bulletin 215-3108, dated March 28, 2001 (for Model CL-215-6B11 (CL215T variant) series airplanes); or Bombardier Service Bulletin 215-4234, dated March 28, 2001 (for Model CL-215-6B11 (CL415 variant) series airplanes); as applicable.

Note 1: Bombardier Service Bulletin 215-3108 and Bombardier Service Bulletin 215-4234 refer to Pratt & Whitney Canada Service Bulletin PW100-72-21636, Revision 2, dated June 26, 2002, as an additional source of service information for accomplishing the replacement of the mounting pad studs.

No Reporting

(g) Although the service bulletin refers to a reporting requirement in paragraph 2.B, that reporting is not required by this AD.

Alternative Methods of Compliance (AMOCs)

(h) The Manager, New York Aircraft Certification Office, FAA, has the authority to approve AMOCs for this AD, if requested using the procedures found in 14 CFR 39.19.

Related Information

(i) Canadian airworthiness directive CF-2002-14, dated February 13, 2002, also addresses the subject of this AD.

Issued in Renton, Washington, on October 21, 2004.
Kalene C. Yanamura,
Acting Manager, Transport Airplane Directorate, Aircraft Certification Service.

[FR Doc. 04-24543 Filed 11-2-04; 8:45 am]

BILLING CODE 4910-13-P